LIBRARY OF CONGRESS

U.S. Copyright Office

[Docket No. 2015-7]

Section 512 Study: Announcement of Public Roundtables

AGENCY: U.S. Copyright Office, Library of Congress.

ACTION: Notice of public roundtables.

SUMMARY: The United States Copyright Office has undertaken a study to evaluate the impact and effectiveness of the DMCA safe harbor provisions contained in 17 U.S.C. 512. On December 31, 2015, the Office issued a Notice of Inquiry (“NOI”) soliciting written comments in response to a number of topics relating to section 512. See 80 FR 81862. The due date for initial written comments in response to the NOI is April 1, 2016. See 81 FR 11294. At this time, the Office is announcing it will hold two two-day public roundtables on DMCA safe harbor issues in New York, New York and Stanford, California in May 2016.

Dates and Addresses

The New York roundtable will take place on May 2 and 3, 2016, from 9:00 a.m. to 5:00 p.m. on both days, and will be held in the Lester Pollack Colloquium Room of Furman Hall at the New York University School of Law, 245 Sullivan Street, New York, New York 10012.

The Stanford roundtable will take place on May 12 and 13, 2016, from 9:00 a.m. to 5:00 p.m. on both days, and will be held in the Manning Faculty Lounge of the Stanford Law School, 559 Nathan Abbott Way, Stanford, California 94305.

FOR FURTHER INFORMATION CONTACT: Jacqueline C. Charlesworth, General Counsel and Associate Register of Copyrights, jcharlesworth@loc.gov; or Karyn Temple Claggett, Director of the Office of Policy and International Affairs and Associate Register of Copyrights, kacl@loc.gov. Both can be reached by telephone at 202-707-8350.

SUPPLEMENTARY INFORMATION: Section 512 of Title 17 codifies provisions of the Digital Millennium Copyright Act (“DMCA”), enacted in 1998, that created a system for copyright owners and internet service providers to address online infringement. This system includes “safe harbor” limitations on infringement liability for service providers who comply with statutory requirements to facilitate good-faith, expeditious removal of allegedly infringing content. In light of the exponential growth of content distribution over the internet since the DMCA was enacted, the Copyright Office has undertaken a comprehensive study of the DMCA's notice-and-takedown system. On December 31, 2015, the Office issued an NOI seeking public comment on thirty topics concerning the efficiency and effectiveness of section 512. See 80 FR 81862.

At this time, the Copyright Office is providing notice of its intention to seek further input for its study through two two-day public roundtables to be held in New York, New York and Stanford, California. The roundtables will offer an opportunity for interested parties to comment further on the pertinent issues, including topics such as the scope and legal requirements of the DMCA safe harbors; the notice-and-takedown and counter-notification processes, including relevant technological developments; voluntary measures to address online infringement; and the overall effectiveness of section 512. Additional information about the specific topics to be covered at the roundtables is available at http://copyright.gov/policy/section512/public-roundtable/particpate-request.html.

The roundtable hearing rooms will have a limited number of seats for participants and observers. Those who seek to participate should complete and submit the form available through the Copyright Office's Web site at http://copyright.gov/policy/section512/public-roundtable/particpate-request.html so it is received no later than April 4, 2016. For individuals who wish to observe a roundtable, the Office will provide public seating on a first-come, first-served basis on the days of the roundtables.

Dated: March 15, 2016.
Maria A. Pallante,
Register of Copyrights, U.S. Copyright Office.

[FR Doc. 2016-06200 Filed 3-17-16; 8:45 am]

BILLING CODE 1410-30-P